DEPARTMENT OF THE INTERIOR

National Park Service

Notice of Intent to Repatriate: Louisiana Department of Culture, Recreation, and Tourism, Division of Archaeology, Baton Rouge, LA; Correction

AGENCY: National Park Service, Interior.

ACTION: Notice; correction.

Notice is here given in accordance with the Native American Graves Protection and Repatriation Act (NAGPRA), 25 U.S.C. 3005, of the intent to repatriate cultural items in the possession of the Louisiana Department of Culture, Recreation, and Tourism, Division of Archaeology, Baton Rouge, LA, that meet the definition of “unassociated funerary objects” under 25 U.S.C. 3001.

This notice is published as part of the National Park Service's administrative responsibilities under NAGPRA, 25 U.S.C. 3003 (d)(3). The determinations in this notice are the sole responsibility of the museum, institution, or Federal agency that has control of the cultural items. The National Park Service is not responsible for the determinations in this notice.

This notice corrects the title of the notice published in the Federal Register on March 25, 2002 (FR Doc 02-7009, page 13651-13652).

The title of the March 25, 2002, notice is corrected by substituting “Notice of Intent to Repatriate Cultural Items: Louisiana Department of Culture, Recreation, and Tourism, Division of Archaeology, Baton Rouge, LA” for “Notice of Inventory Completion for Native American Human Remains and Associated Funerary Objects in the Possession of the Louisiana Department of Culture, Recreation, and Tourism, Division of Archaeology, Baton Rouge, LA.”

Dated: August 26, 2004.
Sherry Hutt,
Manager, National NAGPRA Program.

[FR Doc. 04-22830 Filed 10-8-04; 8:45 am]

BILLING CODE 4312-50-S